DEPARTMENT OF HOUSING AND URBAN DEVELOPMENT

[Docket No. FR-5500-FA-07]

Announcement of Funding Awards for the Housing Choice Voucher Family Self-Sufficiency (HCV-FSS) Program for Fiscal Year (FY) 2011

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department for funding under the Notice of Funding Availability (NOFA) HCV-FSS program for FY 2011. This announcement contains the consolidated names and addresses of those award recipients selected for funding based on the funding priority categories established in the NOFA.

FOR FURTHER INFORMATION CONTACT: Darrin C. Dorsett, Grant Management Center, Office of Public and Indian Housing, Department of Housing and Urban Development, 451 Seventh Street SW., B133 Potomac Center, 3rd Floor, Washington, DC 20410, telephone number 202-475-8861. For the hearing or speech impaired, these numbers may be accessed via TTY (text telephone) by calling the Federal Relay Service at 800-877-8339. (Other than the “800” TTY number, these telephone numbers are not toll-free.)

SUPPLEMENTARY INFORMATION: The HCV-FSS Program is intended to promote the development of local strategies to coordinate the use of assistance under the HCV program with public and private resources to enable participating families to increase earned income and financial literacy, reduce or eliminate the need for welfare assistance, and make progress toward economic independence and self-sufficiency. The HCV-FSS program provides critical tools that can be used by communities to help families develop new skills that will lead to economic self-sufficiency. As a result of their participation in the HCV-FSS program, many families have achieved stable employment. An HCV-FSS program coordinator assures that program participants are linked to the supportive services they need to achieve self-sufficiency. In addition to working directly with families, an HCV-FSS Program Coordinator is responsible for building partnership with employers and service providers in the community to help participants obtain jobs and services.

On April 21, 2011, HUD posted its FY 2011 HCV-FSS NOFA. The NOFA made approximately $59.8 million available under the Department of Defense and Full-Year Continuing Appropriations Act, 2011 (Pub. L. 112-10, approved April 15, 2011). The Department reviewed, evaluated and scored the applications received based on the criteria in the FY 2011 NOFA, and has funded the applications announced in Appendix A In accordance with Section 102(a)(4)(C) of the Department of Housing and Urban Development Reform Act of 1989 (42 U.S.C. 3545), the Department is publishing the names, addresses, and amounts of the 659 awards made under the FY 2011 HCV-FSS Program competition.

Dated: February 17, 2012.
Sandra B. Henriquez,
Assistant Secretary for Public and Indian Housing.

Appendix A

Fiscal Year 2011 Funding Awards for the Housing Choice Voucher Family Self-Sufficiency Program

Recipient | Address | City | State | Zip code | Amount
Alaska Housing Finance Corporation | P.O. Box 101020 | Anchorage | AK | 99510 | $198,642
Albertville Housing Authority | 711 South Broad Street | Albertville | AL | 35950 | 42,242
Alexander City Housing Authority | 2110 County Road | Alexander City | AL | 35010 | 38,773
Florence Housing Authority | 110 South Cypress Street, Suite 1 | Florence | AL | 35630 | 52,246
Housing Authority of the Birmingham District | 1826 3rd Avenue South | Birmingham | AL | 35233 | 66,214
Huntsville Housing Authority | 200 Washington Street | Huntsville | AL | 35804 | 116,026
Jefferson County Housing Authority | 3700 Industrial Parkway | Birmingham | AL | 35217 | 100,286
Mobile Housing Board | 151 South Claiborne Street | Mobile | AL | 36602 | 168,528
Prichard Housing Authority | 200 West Prichard Avenue | Prichard | AL | 36610 | 46,606
Sheffield Housing Authority | 505 North Columbia Avenue | Sheffield | AL | 35660 | 50,213
The Housing Authority of the City of Montgomery, Alabama | 525 South Lawrence Street | Montgomery | AL | 36104 | 51,801
Tuscaloosa Housing Authority | P.O. Box 2281, 2117 Jack Warner Parkway | Tuscaloosa | AL | 35403 | 53,000
Conway County Housing Authority FSS | P.O. Box 229, 71 Bridewell Manor | Morrilton | AR | 72110 | 39,543
Fort Smith Housing Authority | 2100 North 31st Street | Fort Smith | AR | 72904 | 52,025
Housing Authority of Lonoke County | P.O. Box 74, 617 North Greenlaw | Carlisle | AR | 72024 | 37,513
Housing Authority of the City of Conway | 335 South Mitchell Street | Conway | AR | 72034 | 34,500
Housing Authority of the City of Hope | 720 Texas Street | Hope | AR | 71801 | 31,627
Housing Authority of the City of Hot Springs | 1004 Illinois Street | Hot Springs | AR | 71901 | 47,879
Housing Authority of the City of North Little Rock Arkansas | P.O. Box 516, 2201 Division Street | North Little Rock | AR | 72114 | 96,015
Housing Authority of the City of Pine Bluff | P.O. Box 8872, 2503 Belle Meade Drive | Pine Bluff | AR | 71611 | 58,000
Housing Authority of the City of West Memphis | 2820 Harrison Street | West Memphis | AR | 72301 | 44,970
Jonesboro Urban Renewal and Housing Authority | 330 Union | Jonesboro | AR | 72401 | 42,460
Lee County Housing Authority | 100 West Main | Marianna | AR | 72360 | 27,596
McGehee Public Residential Housing Facilities Board | P.O. Box 725 | McGehee | AR | 71654 | 39,810
Mississippi County Public Facilities Board | 810 West Keiser | Osceola | AR | 72370 | 39,314
Northwest Regional Housing Authority | P.O. Box 2568, 114 Sisco Avenue | Harrison | AR | 72602 | 41,016
Pope County Public Facilities Board | P.O. Box 846, 301 East 3rd Street | Russellville | AR | 72811 | 36,052
Pulaski County Housing Agency | 201 South Broadway, Suite 220 | Little Rock | AR | 72201 | 43,974
White River Regional Housing Authority | P.O. Box 650 | Melbourne | AR | 72556 | 39,594
Wynne Housing Authority | 200 Fisher Place | Wynne | AR | 72396 | 17,170
Chandler, City of | P.O. Box 4008, Mail Stop 101 | Chandler | AZ | 85244 | 54,986
City of Mesa | P.O. Box 1466 | Mesa | AZ | 85211 | 68,680
City of Phoenix Housing Department | 251 West Washington, 4th Floor | Phoenix | AZ | 85003 | 138,000
City of Scottsdale Housing Agency | 7515 East 1st Street | Scottsdale | AZ | 85251 | 68,680
City of Tempe Housing Services | 21 East 6th Street, Suite 214 | Tempe | AZ | 85281 | 68,680
City of Tucson | P.O. Box 27210, 310 North Commerce Park Loop | Tucson | AZ | 85726 | 138,000
Douglas City of, Public Housing Authority | 425 10th Street | Douglas | AZ | 85607 | 67,226
Housing Authority of Cochise County | P.O. Box 167, 100 Clawson Avenue | Bisbee | AZ | 85603 | 55,476
Housing Authority of the City of Yuma | 420 South Madison Avenue | Yuma | AZ | 85364 | 249,500
Mohave, County of | P.O. Box 7000 | Kingman | AZ | 86402 | 50,601
Pinal County Housing & Community Development | 970 North Eleven Mile Corner Road | Casa Grande | AZ | 85194 | 55,922
Yuma County Housing Department | 8450 West Highway 95, Suite 88 | Somerton | AZ | 85350 | 57,430
Area Housing Authority of the County of Ventura | 1400 West Hillcrest Drive | Newbury Park | CA | 91320 | 64,135
City of Anaheim Housing Authority | 201 South Anaheim Boulevard | Anaheim | CA | 92805 | 137,360
City of Norwalk | 12035 Firestone Boulevard | Norwalk | CA | 90650 | 64,637
City of Oceanside Community Development Commission | 300 North Coast Highway | Oceanside | CA | 92054 | 137,360
City of Pomona | 505 South Garey Avenue | Pomona | CA | 91766 | 138,000
City of Santa Monica Housing Authority | 1901 Main Street | Santa Monica | CA | 90405 | 65,286
City of Santa Rosa | 90 Santa Rosa Avenue | Santa Rosa | CA | 95404 | 68,000
Consolidated Area Housing Authority of Sutter County | 448 Garden Highway | Yuba City | CA | 95991 | 51,978
Culver City Housing Agency | 9770 Culver Boulevard | Culver City | CA | 90232 | 33,107
El Dorado County Public Housing Authority | 937 Spring Street | Placerville | CA | 95667 | 59,902
Fairfield Housing Authority | 823-B Jefferson Street | Fairfield | CA | 94533 | 135,816
Garden Grove Housing Authority | 11277 Garden Grove Boulevard, Suite 101C | Garden Grove | CA | 92842 | 69,000
Housing and Community Development, California Dept of | 1800 Third Street, Room 390-4 | Sacramento | CA | 95811 | 34,845
Housing Authority City of Fresno | 1331 Fulton Mall | Fresno | CA | 93721 | 194,514
Housing Authority County of Stanislaus | P.O. Box 581918, 1701 Robertson Road | Modesto | CA | 95358 | 136,350
Housing Authority of Fresno County | 1331 Fulton Mall | Fresno | CA | 93721 | 196,812
Housing Authority of the City of Alameda | 701 Atlantic Avenue | Alameda | CA | 94501 | 69,000
Housing Authority of the City of Long Beach | 521 East 4th Street | Long Beach | CA | 90802 | 269,723
Housing Authority of the City of Los Angeles | 2600 Wilshire Boulevard | Los Angeles | CA | 90057 | 755,480
Housing Authority of the City of Redding | P.O. Box 496071 | Redding | CA | 96049 | 58,717
Housing Authority of the City of San Buenaventura | 995 Riverside Street | Ventura | CA | 93001 | 54,948
Housing Authority of the City of San Luis Obispo | 487 Leff Street | San Luis Obispo | CA | 93401 | 51,577
Housing Authority of the City of Santa Ana | P.O. Box 22030, M-27, 20 Civic Center Plaza, 2nd Floor | Santa Ana | CA | 92702 | 69,000
Housing Authority of the City of Santa Barbara | 808 Laguna Street | Santa Barbara | CA | 93101 | 134,654
Housing Authority of the City of Vallejo | 200 Georgia Street | Vallejo | CA | 94590 | 68,680
Housing Authority of the County of Butte | 2039 Forest Avenue | Chico | CA | 95928 | 63,630
Housing Authority of the County of Kern | 601-24th Street | Bakersfield | CA | 93301 | 188,412
Housing Authority of the County of Kings | P.O. Box 355, 680 North Douty Street | Hanford | CA | 93232 | 57,234
Housing Authority of the County of Los Angeles | 12131 Telegraph Road | Santa Fe Springs | CA | 90670 | 621,000
Housing Authority of the County of Marin | 4020 Civic Center Drive | San Rafael | CA | 94903 | 138,000
Housing Authority of the County of Merced | 405 U Street | Merced | CA | 95341 | 54,400
Housing Authority of the County of Monterey | 123 Rico Street | Salinas | CA | 93907 | 138,000
Housing Authority of the County of Riverside | 5555 Arlington Avenue | Riverside | CA | 92504 | 483,000
Housing Authority of the County of Sacramento | 801 12th Street | Sacramento | CA | 95814 | 69,000
Housing Authority of the County of San Bernardino | 715 East Brier Drive | San Bernardino | CA | 92408 | 138,000
Housing Authority of the County of San Diego | 3989 Ruffin Road | San Diego | CA | 92123 | 136,327
Housing Authority of the County of San Joaquin | 448 South Center Street | Stockton | CA | 95203 | 131,116
Housing Authority of the County of San Mateo | 264 Harbor Boulevard, #A | Belmont | CA | 94002 | 207,000
Housing Authority of the County of Santa Barbara | 815 West Ocean Avenue | Lompoc | CA | 93436 | 67,327
Housing Authority of the County of Santa Cruz | 2931 Mission Street | Santa Cruz | CA | 95060 | 69,000
Imperial Valley Housing Authority | 1401 D Street | Brawley | CA | 92227 | 61,151
Lake County Housing Commission | P.O. Box 1049, 16170 Main Street, Suite D | Lower Lake | CA | 95457 | 63,764
Madera, City of | 205 North G Street | Madera | CA | 93627 | 56,720
Napa Housing Authority | 1115 Seminary Street | Napa | CA | 94559 | 138,000
Oakland Housing Authority | 1619 Harrison Street | Oakland | CA | 94612 | 276,000
Orange County Housing Authority | 1770 North Broadway | Santa Ana | CA | 92706 | 194,970
Oxnard Housing Authority | 435 South D Street | Oxnard | CA | 93030 | 67,327
Pico Rivera Housing Assistance Agency | 6615 South Passons Boulevard | Pico Rivera | CA | 90660 | 32,500
Roseville Housing Authority | 311 Vernon Street | Roseville | CA | 95678 | 66,213
San Diego Housing Commission | 1122 Broadway, Suite 300 | San Diego | CA | 92101 | 408,798
Solano County Housing Authority | 40 Eldridge Avenue, Suite 2 | Vacaville | CA | 95688 | 57,131
Sonoma County Community Development Commission | 1440 Guerneville Road | Santa Rosa | CA | 95403 | 69,000
Vacaville Housing Authority | 40 Eldridge Avenue, Suite 2 | Vacaville | CA | 95688 | 132,424
Yuba County Housing Authority | 915 8th Street, Suite 130 | Marysville | CA | 95901 | 55,458
Adams County Housing Authority | 7190 Colorado Boulevard | Commerce City | CO | 80022 | 49,484
Boulder County Housing Authority | P.O. Box 471 | Boulder | CO | 80306 | 193,740
Colorado Department of Local Affairs, Division of Housing | 1313 Sherman Street | Denver | CO | 80203 | 103,522
Fort Collins Housing Authority | 1715 West Mountain Avenue | Fort Collins | CO | 80521 | 134,654
Housing Authority of the City and County of Denver | 777 Grant Street | Denver | CO | 80203 | 88,928
Housing Authority of the City of Englewood | 3460 South Sherman, Suite #101 | Englewood | CO | 80113 | 44,128
Housing Authority of the City of Grand Junction | 1011 North 10th Street | Grand Junction | CO | 81501 | 51,761
Housing Authority of the City of Pueblo | 1414 North Santa Fe Avenue | Pueblo | CO | 81003 | 42,804
Lakewood Housing Authority | 575 Union Boulevard, Suite 100 | Lakewood | CO | 80228 | 33,663
Bristol Housing Authority | 164 Jerome Street | Bristol | CT | 6010 | 67,328
Connecticut Department of Social Services | 25 Sigourney Street | Hartford | CT | 6106 | 206,040
Housing Authority of the City of Ansonia | 36 Main Street | Ansonia | CT | 6401 | 27,727
Housing Authority of New Britain | 16 Armistice Street | New Britain | CT | 6053 | 69,000
Housing Authority of Stamford | 22 Clinton Street | Stamford | CT | 6901 | 68,680
Housing Authority of the City of Derby | 101 West Fourth Street | Derby | CT | 6418 | 54,914
Housing Authority of the City of New Haven | 360 Orange Street | New Haven | CT | 6511 | 69,000
Housing Authority of the City of Norwalk | 24½ Monroe Street | Norwalk | CT | 6856 | 69,000
West Hartford Housing Corporation | 80 Shield Street | West Hartford | CT | 6110 | 68,680
District of Columbia Housing Authority | 1133 North Capitol Street NE, Suite 150B | Washington | DC | 20002 | 276,000
Wilmington Housing Authority | 400 North Walnut Street | Wilmington | DE | 19801 | 69,000
Boca Raton Housing Authority | 2333A West Glades Road | Boca Raton | FL | 33431 | 51,515
Broward County Housing Authority | 4780 North State Road 7 | Lauderdale Lakes | FL | 33319 | 179,101
Clearwater Housing Authority | 908 Cleveland Street | Clearwater | FL | 33755 | 47,769
Collier County Housing Authority | 1800 Farm Worker Way | Immokalee | FL | 34142 | 52,049
Delray Beach Housing Authority | 600 North Congress Avenue, Suite 310-B | Delray Beach | FL | 33445 | 51,426
Hialeah Housing Authority | 75 East 6th Street | Hialeah | FL | 33010 | 72,351
Hillsborough County Board of County Commissioners | 3620 West Humphrey Street | Tampa | FL | 33614 | 191,934
Hollywood Housing Authority | 7350 North Davie Road Ext. | Hollywood | FL | 33024 | 20,107
Housing Authority of Brevard County | 1401 Guava Avenue | Melbourne | FL | 32935 | 60,000
Housing Authority of Lakeland | 430 Hartsell Avenue | Lakeland | FL | 33815 | 88,253
Housing Authority of Pompano Beach | P.O. Box 2006 | Pompano Beach | FL | 33061 | 46,107
Housing Authority of the City of Deerfield Beach | 533 South Dixie Highway, Suite 201 | Deerfield Beach | FL | 33441 | 47,232
Housing Authority of the City of Fort Lauderdale | 437 Southwest 4th Avenue | Fort Lauderdale | FL | 33315 | 132,964
Housing Authority of the City of Fort Myers | 4224 Renaissance Preserve Way | Fort Myers | FL | 33916 | 100,736
Housing Authority of the City of Miami Beach | 200 Alton Road | Miami Beach | FL | 33139 | 63,000
Housing Authority of the City of Tampa | 1529 West Main Street | Tampa | FL | 34691 | 204,168
Jacksonville Housing Authority | 1300 North Broad Street | Jacksonville | FL | 32202 | 188,550
Lee County Housing Authority | 14170 Warner Circle | North Fort Myers | FL | 33903 | 46,879
Manatee County Housing Authority | 5631 11th Street East | Bradenton | FL | 34203 | 31,310
Miami-Dade Public Housing Agency | 701 Northwest 1st Court, 16th Floor | Miami | FL | 33136 | 218,120
Milton Housing Authority | 5668 Byrom Street | Milton | FL | 32570 | 69,000
Orange County Housing and Community Development | 525 East South Street | Orlando | FL | 32801 | 68,000
Pahokee Housing Authority | 465 Friend Terrace | Pahokee | FL | 33476 | 39,000
Palm Beach County Housing Authority | 3432 West 45th Street | West Palm Beach | FL | 33407 | 119,614
Pasco County Housing Authority | 14517 7th Street | Dade City | FL | 33523 | 32,749
Pinellas County Housing Authority | 11479 Ulmerton Road | Largo | FL | 33778 | 64,539
Punta Gorda Housing Authority | 340 Gulf Breeze Avenue | Punta Gorda | FL | 33950 | 53,025
Sarasota Housing Authority | 40 South Pineapple Avenue, Suite 200 | Sarasota | FL | 34236 | 10,100
The Housing Authority of the City of Daytona Beach | 211 North Ridgewood Avenue, Suite 300 | Daytona Beach | FL | 32114 | 41,543
The Housing Authority of the City of Fort Pierce | 511 Orange Avenue | Fort Pierce | FL | 34950 | 63,798
The West Palm Beach Housing Authority | 1715 Division Avenue | West Palm Beach | FL | 33407 | 88,401
Walton County Housing Agency | 63 BoPete Manor Road | DeFuniak Springs | FL | 32435 | 30,000
Winter Haven Housing Authority | 2653 Avenue C. SW | Tampa | FL | 33880 | 69,000
City of Marietta HCV | 268 Lawrence Street, Suite 200 | Marietta | GA | 30060 | 56,694
Housing Authority of Columbus, Georgia | P.O. Box 630, 1000 Wynnton Road | Columbus | GA | 31902 | 45,904
Housing Authority of Fulton County | 4273 Wendell Drive | Atlanta | GA | 30336 | 46,562
Housing Authority of Savannah | P.O. Box 1179 | Savannah | GA | 31402 | 138,000
Housing Authority of the City of Augusta, Georgia | 1435 Walton Way | Augusta | GA | 30901 | 150,695
Housing Authority of the City of Carrollton | 1 Roop Street | Carrollton | GA | 30117 | 56,450
Housing Authority of the City of East Point, GA | 3056 Norman Berry Drive | East Point | GA | 30344 | 66,600
Housing Authority of the City of Jonesboro | P.O. Box 458, 203 Hightower Street | Jonesboro | GA | 30237 | 100,908
Housing Authority of the City of Marietta | P.O. Box Drawer K, 95 Cole Street NE | Marietta | GA | 30061 | 57,070
Northwest Georgia Housing Authority | 800 North Fifth Avenue | Rome | GA | 30162 | 41,410
The Housing Authority of the City of Atlanta, Georgia | 230 John Wesley Dobbs Avenue | Atlanta | GA | 30303 | 120,000
The Housing Authority of the City of College Park | 2000 West Princeton Avenue | College Park | GA | 30337 | 64,068
Guam Housing and Urban Renewal Authority | 117 Bien Venida Avenue | Sinajana | GU | 96910 | 56,718
City and County of Honolulu | Honolulu Hale | Honolulu | HI | 96813 | 189,008
County of Maui | 35 Lunalilo Street, Suite 400 | Wailuku | HI | 96793 | 68,680
Hawaii County Housing Agency | 50 Wiluku Drive | Hilo | HI | 96720 | 66,204
Hawaii Public Housing Authority | 1002 North School Street | Honolulu | HI | 96817 | 63,031
Kauai, County of; DBA Kauai County Housing Agency | 4444 Rice Street, Suite 330 | Lihue | HI | 96766 | 133,000
Central Iowa Regional Housing Authority | 1201 Southeast Gateway Drive | Grimes | IA | 50111 | 57,529
City of Cedar Rapids | 1211 6th Street, SW | Cedar Rapids | IA | 52404 | 138,000
City of Des Moines Municipal Housing Agency | 100 East Euclid Avenue, Suite 101 | Des Moines | IA | 50313 | 132,973
City of Dubuque | 350 West 6th Street, Suite 312 | Dubuque | IA | 52001 | 63,478
City of Sioux City Housing Authority | P.O. Box 447, 405 6th Street | Sioux | IA | 51102 | 138,000
Eastern Iowa Regional Housing Authority | 7600 Commerce Park | Dubuque | IA | 52002 | 139,940
Iowa City Housing Authority | 410 East Washington Street | Iowa City | IA | 52240 | 121,721
Mid Iowa Regional Housing Authority | 1605 1st. Avenue North, Suite #1 | Fort Dodge | IA | 50501 | 23,528
Municipal Housing Agency of Council Bluffs, IA | 505 South 6th Street | Council Bluffs | IA | 51501 | 48,676
Municipal Housing Agency of the City of Fort Dodge | 700 South 17th Street | Fort Dodge | IA | 50501 | 102,766
Muscatine, City of | 215 Sycamore | Muscatine | IA | 52761 | 55,309
Northeast Nebraska Joint HA | 1122 Pierce Street | Sioux City | IA | 51105 | 40,756
Region XII Regional Housing Authority | P.O. Box 663, 320 East 7th Street | Carroll | IA | 51401 | 45,000
Southern Iowa Regional Housing Authority | 219 North Pine Street | Creston | IA | 50801 | 43,850
Ada County Housing Authority | 1276 West River Street, Suite #300 | Boise | ID | 83702 | 111,708
Boise City Housing Authority | 1276 West River Street, Suite #300 | Boise | ID | 83702 | 111,710
Idaho Housing and Finance Association | P.O. Box 7899, 565 West Myrtle Street | Boise | ID | 83707 | 247,402
Southwestern Idaho Cooperative Housing Authority Corp | 377 East Main Street | Middleton | ID | 83644 | 89,114
Chicago Housing Authority | 60 East Van Buren | Chicago | IL | 60605 | 738,873
DuPage Housing Authority | 711 East Roosevelt Road | Wheaton | IL | 60187 | 135,342
Housing Authority of Elgin | 120 South State Street | Elgin | IL | 60123 | 67,327
Housing Authority of Joliet | 6 South Broadway Street | Joliet | IL | 60436 | 64,992
Housing Authority of the City of Bloomington | 104 East Wood Street | Bloomington | IL | 61701 | 51,782
Housing Authority of the City of East St. Louis | 700 North 20th Street | East St. Louis | IL | 62205 | 69,000
Housing Authority of the County of Cook | 175 West Jackson Boulevard, Suite 350 | Chicago | IL | 60604 | 184,800
Housing Authority of the County of Lake | 33928 North Route 45 | Grayslake | IL | 60030 | 153,561
Kankakee County Housing Authority | P.O. Box 965, 185 North Street Joseph Avenue | Kankakee | IL | 60901 | 43,280
Madison County Housing Authority | 1609 Olive Street | Collinsville | IL | 62234 | 69,000
Rock Island Housing Authority | 227 21st Street | Rock Island | IL | 61201 | 32,454
Rockford Housing Authority | 223 South Winnebago Street | Rockford | IL | 61102 | 192,345
Springfield Housing Authority | 200 North Eleventh Street | Springfield | IL | 62703 | 148,580
Winnebago County Housing Authority | 3617 Delaware Street | Rockford | IL | 61102 | 63,936
Housing Authority City of Peru | 701 East Main Street | Peru | IN | 46970 | 45,945
Housing Authority City of Vincennes | P.O. Box 1636, 501 Hart Street | Vincennes | IN | 47591 | 87,270
Housing Authority of South Bend | 501 Alonzo Watson Drive | South Bend | IN | 46601 | 36,748
Housing Authority of the City of Bloomington | 1007 North Summit Street | Bloomington | IN | 47404 | 91,953
Housing Authority of the City of Fort Wayne, Indiana | P.O. Box 13489, 7315 Hanna Street | Fort Wayne | IN | 46869 | 80,000
Housing Authority of the City of Gary | 578 Broadway | Gary | IN | 46402 | 50,900
Housing Authority of the City of Hammond | 1402 173rd Street | Hammond | IN | 46324 | 59,418
Housing Authority of the City of Kokomo | P.O. Box 1207, 210 East Taylor Street | Kokomo | IN | 46903 | 20,828
Housing Authority of the City of Terre Haute | P.O. Box 3086, 2001 North 19th Street | Terre Haute | IN | 47803 | 114,434
Housing Authority, City of Elkhart | 1396 Benham Avenue | Elkhart | IN | 46516 | 87,888
Logansport Housing Authority | 719 Spencer Street, Suite 100 | Logansport | IN | 46947 | 29,706
New Albany Housing Authority | P.O. Box 11 | New Albany | IN | 47150 | 48,965
City of Olathe | P.O. Box 768, 201 North Cherry Street | Olathe | KS | 66051 | 54,278
City of Wichita Kansas Housing Authority | 332 North Riverview | Wichita | KS | 67203 | 176,384
Johnson County Kansas | 12425 West 87th Street Parkway, Suite 200 | Lenexa | KS | 66215 | 62,736
Lawrence-Douglas County Housing Authority | 1600 Haskell Avenue | Lawrence | KS | 66044 | 157,005
Manhattan Housing Authority | P.O. Box 1024, 300 North 5th Street | Manhattan | KS | 66505 | 18,096
Topeka Housing Authority | 2010 Southeast California Avenue | Topeka | KS | 66607 | 21,790
Appalachian Foothills Housing Agency, Inc | 1214 Riverside Boulevard | Wurtland | KY | 41144 | 44,203
Barbourville Urban Renewal & Community Development Agency | P.O. Box 806, 338 Court Square | Barbourville | KY | 40906 | 32,703
Boone County Fiscal Court | 2950 Washington Square | Burlington | KY | 41005 | 65,558
Campbell County Department of Housing | 1098 Monmouth Street | Newport | KY | 41072 | 24,166
Campbellsville Housing & Redevelopment Authority | 400 Ingram Avenue | Campbellsville | KY | 42718 | 28,640
City of Covington CDA | 638 Madison Avenue, Room 506 | Covington | KY | 41011 | 51,005
City of Richmond Section 8 Housing | P.O. Box 250 | Richmond | KY | 40476 | 100,000
Cumberland Valley Regional Housing Authority | P.O. Box 806, 338 Court Square | Barbourville | KY | 40906 | 86,125
Housing Authority of Cynthiana | 148 Federal Street | Cynthiana | KY | 41031 | 63,291
Housing Authority of Floyd County | 402 John M Stumbo Drive | Langley | KY | 41645 | 30,603
Housing Authority of Frankfort | 590 Walter Todd Drive | Frankfort | KY | 40601 | 48,728
Housing Authority of Georgetown | 139 Scroggins Park | Georgetown | KY | 40324 | 45,908
Housing Authority of Newport, KY | P.O. Box 72459, 30 East 8th Street | Newport | KY | 41071 | 52,735
Housing Authority of Somerset | P.O. Box 449 | Somerset | KY | 42502 | 42,334
Kentucky Housing Corporation | 1231 Louisville Road | Frankfort | KY | 40601 | 153,949
Lexington-Fayette Urban County Housing Authority | 300 West New Circle Road | Lexington | KY | 40505 | 50,029
Louisville Metro Housing Authority | 420 South Eighth Street | Louisville | KY | 40203 | 451,038
Pineville Urban Renewal & Community | 114 West Kentucky Avenue | Pineville | KY | 40977 | 31,642
Calcasieu Parish Police Jury Housing Department | P.O. Box 1583, 1011 Lakeshore Drive, Suite 602 | Lake Charles | LA | 70602 | 46,020
Housing Authority of the Parish of Natchitoches | 525 Fourth Street | Natchitoches | LA | 71457 | 22,980
Jefferson Parish Housing Authority | 1718 Betty Street | Marrero | LA | 70072 | 108,220
Terrebonne, Parish of | Barrow Street | Houma | LA | 70360 | 43,478
Acton Housing Authority | 68 Windsor Avenue | Acton | MA | 1720 | 58,000
Arlington Housing Authority | 4 Winslow Street | Arlington | MA | 2474 | 67,327
Boston Housing Authority | 52 Chauncy Street | Boston | MA | 2111 | 206,040
Braintree Housing Authority | 25 Roosevelt Street | Braintree | MA | 2184 | 26,982
Brockton Housing Authority | 45 Goddard Road | Brockton | MA | 2303 | 68,680
Chelmsford Housing Authority | 10 Wilson Street | Chelmsford | MA | 1824 | 63,356
Chelsea Housing Authority | 54 Locke Street | Chelsea | MA | 2150 | 32,779
Commonwealth of Massachusetts | 100 Cambridge Street | Boston | MA | 2114 | 730,429
Fall River Housing Authority | 85 Morgan Street | Fall River | MA | 2722 | 36,664
Framingham Housing Authority | 1 John J. Brady Drive | Framingham | MA | 1702 | 33,485
Gardner Housing Authority | 116 Church Street | Gardner | MA | 1440 | 50,762
Gloucester Housing Authority | P.O. Box 1599, 259 Washington Street | Gloucester | MA | 1931 | 42,953
Greenfield Housing Authority | 1 Elm Terrace | Greenfield | MA | 1301 | 63,159
Hingham Housing Authority | 30 Thaxter Street | Hingham | MA | 2043 | 67,332
Holyoke Housing Authority | 475 Maple Street, Suite One | Holyoke | MA | 1040 | 48,680
Leominster Housing Authority | 100 Main Street | Leominster | MA | 1453 | 48,250
Lowell Housing Authority | P.O. Box 60, 350 Moody Street | Lowell | MA | 1853 | 65,558
Lynn Housing Authority & Neighborhood Development (LHAND) | 10 Church Street | Lynn | MA | 1902 | 60,639
Malden Housing Authority | 630 Salem Street | Malden | MA | 2148 | 56,468
Medford Housing Authority | 121 Riverside Avenue | Medford | MA | 2155 | 67,332
Melrose Housing Authority | 910 Main Street | Melrose | MA | 2176 | 19,510
Methuen Housing Authority | 24 Mystic Street | Methuen | MA | 1844 | 55,668
Milton Housing Authority | 65 Miller Avenue | Milton | MA | 2186 | 33,364
North Andover Housing Authority | One Morkeski Meadows | North Andover | MA | 1845 | 57,857
Plymouth Housing Authority | P.O. Box 3537, 69 Allerton Street | Plymouth | MA | 2361 | 46,363
Revere Housing Authority | 70 Cooledge Street | Revere | MA | 2151 | 66,600
Somerville Housing Authority | 30 Memorial Road | Somerville | MA | 2145 | 62,392
Taunton Housing Authority | 30 Olney Street, Suite B | Taunton | MA | 2780 | 61,248
Wayland Housing Authority | 106 Main Street | Wayland | MA | 1778 | 18,200
Winchester Housing Authority | 13 Westley Street | Winchester | MA | 1890 | 69,000
Worcester Housing Authority | 40 Belmont Street | Worcester | MA | 1605 | 131,300
Baltimore, County of | 6401 York Road | Baltimore | MD | 21212 | 175,288
Cecil County Housing Agency | 200 Chesapeake Boulevard, Suite 1800 | Elkton | MD | 21921 | 52,034
Commissioners of Carroll County | 225 North Center Street | Westminster | MD | 21157 | 54,078
Hagerstown Housing Authority | 35 West Baltimore Street | Hagerstown | MD | 21740 | 50,659
Harford County Housing Agency | 15 South Main Street, Suite 106 | Bel Air | MD | 21014 | 28,118
Housing Authority of Baltimore City | 417 East Fayette Street, Room 923 | Baltimore | MD | 21202 | 344,040
Housing Authority of St. Mary's County, Maryland (HASMC) | 21155 Lexwood Drive, Suite C | Lexington Park | MD | 20653 | 45,048
Housing Opportunities Commission | 10400 Detrick Avenue | Kensington | MD | 20895 | 417,000
Howard County Housing Commission | 6751 Columbia Gateway Drive, Gateway Building, 3rd Floor | Columbia | MD | 21046 | 61,059
Maryland Department of Housing and Community Development | 100 Community Place | Crownsville | MD | 21032 | 37,901
Rockville Housing Enterprises | 621-A Southlawn Lane | Rockville | MD | 20850 | 68,680
The Housing Authority of Washington County | 319 East Antietam Street, 2nd Floor | Hagerstown | MD | 21740 | 31,310
The Housing Commission of Anne Arundel County | 7477 Baltimore & Annapolis Boulevard, Suite 300 | Glen Burnie | MD | 21061 | 63,630
Augusta Housing Authority | 32 Union Street | Augusta | ME | 4330 | 16,242
Bangor Housing Authority | 161 Davis Road | Bangor | ME | 4401 | 22,550
City of Caribou | 25 High Street | Caribou | ME | 4736 | 48,729
Housing Authority of the City of Old Town | P.O. Box 404, 358 Main Street | Old Town | ME | 4468 | 23,972
Lewiston Housing Authority | 1 College Street | Lewiston | ME | 4240 | 19,986
Maine State Housing Authority | 353 Water Street | Augusta | ME | 4330 | 54,031
Portland Housing Authority | 14 Baxter Boulevard | Portland | ME | 4101 | 52,855
Westbrook Housing Authority | 30 Liza Harmon Drive | Westbrook | ME | 4092 | 40,607
Ann Arbor, City of | 727 Miller Avenue | Ann Arbor | MI | 48103 | 34,500
Dearborn Heights Housing Commission | 1160 Sheridan Street | Plymouth | MI | 48170 | 44,471
Detroit Housing Commission | 1301 East Jefferson | Detroit | MI | 48207 | 196,500
Grand Rapids Housing Commission | 1420 Fuller Avenue SE | Grand Rapids | MI | 49507 | 196,705
Kent County Housing Commission | 82 Ionia Avenue NW, Suite 390 | Grand Rapids | MI | 49503 | 117,082
Lansing Housing Commission | 310 Seymour Avenue | Lansing | MI | 48933 | 34,500
Michigan State Housing Development Authority | P.O. Box 30044, 735 East Michigan Avenue | Lansing | MI | 48909 | 966,000
Plymouth Housing Commission | 1160 Sheridan Street | Plymouth | MI | 48170 | 88,942
Pontiac Housing Commission | 132 Franklin Boulevard | Pontiac | MI | 48341 | 69,000
Saginaw Housing Commission | 1803 Norman Street | Saginaw | MI | 48605 | 87,356
Traverse City Housing Commission | 150 Pine Street | Traverse City | MI | 49684 | 66,970
Westland Housing Commission | 32715 Dorsey Road | Westland | MI | 18186 | 33,069
Wyoming Housing Commission | 2450 36th Street SW | Wyoming | MI | 49519 | 137,680
Brainerd Housing and Redevelopment Authority | 324 East River Road | Brainerd | MN | 56401 | 59,000
Dakota County Community Development Agency | 1228 Town Centre Drive | Eagan | MN | 55123 | 12,438
Housing & Redevelopment Authority of Clay County | P.O. Box 99, 116 Center Avenue E | Dilworth | MN | 56529 | 65,746
Housing & Redevelopment Authority of Duluth, MN | P.O. Box 16900, 222 East Second Street | Duluth | MN | 55816 | 65,543
Housing and Redevelopment Authority of Virginia, MN | 442 Pine Mill Court | Virginia | MN | 55792 | 58,713
Housing Authority of St. Louis Park | 5005 Minnetonka Boulevard | St. Louis Park | MN | 55416 | 20,356
Mankato Economic Development Authority | P.O. Box 3368, 10 Civic Center Plaza | Mankato | MN | 56002 | 53,075
Public Housing Agency of the City of Saint Paul | 555 North Wabasha Street, Suite 400 | Saint Paul | MN | 55102 | 68,680
Scott County Community Development Agency | 323 South Naumkeag Street | Shakopee | MN | 55379 | 45,000
South Central MN Multi-County HRA | 360 Pierce Avenue, Suite 106 | North Mankato | MN | 56003 | 38,806
Southeastern Minnesota Multi-County HRA | 134 East Second Street | Wabasha | MN | 55981 | 36,424
Washington County Housing and Redevelopment Authority | 321 Broadway Avenue | Saint Paul Park | MN | 55071 | 17,268
Franklin County Public Housing Agency | P.O. Box 920 | Hillsboro | MO | 63050 | 86,840
Housing Authority of Kansas City, Missouri | 301 East Armour | Kansas City | MO | 64111 | 306,022
Housing Authority of Saint Charles | 1041 Olive Street | Saint Charles | MO | 63301 | 50,274
Housing Authority of St. Louis County | 8865 Natural Bridge Road | St. Louis | MO | 63121 | 121,855
Housing Authority of the City of Columbia, MO | 201 Switzler Street | Columbia | MO | 65203 | 51,378
Housing Authority of the City of Jefferson | P.O. Box 1029, 1040 Myrtle Avenue | Jefferson City | MO | 65109 | 69,000
Housing Authority of the City of Liberty | 17 East Kansas | Liberty | MO | 64068 | 44,645
Housing Authority of the City of Springfield, Missouri | 421 West Madison Street | Springfield | MO | 65806 | 26,825
Jasper County Public Housing Agency | 302 Joplin Street | Joplin | MO | 64801 | 27,774
North East Community Action Corp./dba Lincoln County PHA | P.O. Box 470, 16 North Court Street | Bowling Green | MO | 63334 | 75,528
Phelps County Public Housing Agency | #4 Industrial Drive | Saint James | MO | 65559 | 53,932
Ripley County Public Housing Agency | 3019 Fair Street | Poplar Bluff | MO | 63901 | 34,213
St. Charles County Government | 100 North Third Street | St. Charles | MO | 63301 | 42,825
St. Clair County PHA | P.O. Box 125, 106 West Fourth | Appleton City | MO | 64724 | 169,988
St. Francois County Public Housing Agency | Box 308, 403 Parkway Drive | Park Hills | MO | 63601 | 31,530
St. Louis Housing Authority | 3520 Page Boulevard | St. Louis | MO | 63106 | 61,481
Mississippi Regional Housing Authority No. II | 900 Molly Barr Road | Oxford | MS | 38655 | 30,000
Mississippi Regional Housing Authority No. VII | P.O. Box 748, 130 Commerce Street | McComb | MS | 39648 | 71,909
Mississippi Regional Housing Authority VI | P.O. Box 8746, 2180 Terry Road | Jackson | MS | 39284 | 121,965
Mississippi Regional Housing Authority VIII | P.O. Box 2347, 10430 Three Rivers Road | Gulfport | MS | 39501 | 68,680
North Delta Regional Housing Authority | P.O. Box 1148, #4 East Second Street | Clarksdale | MS | 38614 | 21,450
South Delta Regional Housing Authority | 202 Weston Avenue | Leland | MS | 38756 | 106,500
Tennessee Valley Regional Housing Authority | P.O. Box 1329 | Corinth | MS | 38835 | 176,640
The Housing Authority of the City of Biloxi | P.O. Box 447, 330 Benachi Avenue | Biloxi | MS | 39533 | 41,612
The Housing Authority of the City of Jackson, MS | 2747 Livingston Road | Jackson | MS | 39213 | 56,588
The Housing Authority of the City of Meridian | 2425 E. Street | Meridian | MS | 39302 | 53,833
Housing Authority of Billings | 2415 1st Avenue North | Billings | MT | 59101 | 41,049
Missoula Housing Authority | 1235 34th Street | Missoula | MT | 59801 | 134,654
Chatham County Housing Authority | P.O. Box 637, 190 Sanford Road | Pittsboro | NC | 27312 | 48,636
City of Concord Housing Department | P.O. Box 308, 283 Harold Goodman Circle | Concord | NC | 28026 | 19,076
Coastal Community Action, Inc. | Post Office Box 729, 303 McQueen Avenue | Newport | NC | 28570 | 37,301
East Spencer Housing Authority | P.O. Box 367, 206 South Long Street | East Spencer | NC | 28039 | 44,200
Eastern Carolina Human Services Agency, Inc. | 246 Georgetown Road | Jacksonville | NC | 28541 | 66,799
Economic Improvement Council, Inc. | 712 Virginia Road | Edenton | NC | 27932 | 44,167
Gastonia Housing Authority | P.O. Box 2398, 340 West Long Avenue | Gastonia | NC | 28053 | 23,884
Greensboro Housing Authority | P.O. Box 21287, 450 North Church Street | Greensboro | NC | 27420 | 150,670
Housing Authority of the City of Asheville | 165 South French Broad Avenue | Asheville | NC | 28801 | 69,000
Housing Authority of the City of Charlotte, NC | 1301 South Boulevard | Charlotte | NC | 28203 | 48,233
Housing Authority of the City of Greenville | 1103 Broad Street | Greenville | NC | 27834 | 100,050
Housing Authority of the City of High Point | 500 East Russell Avenue | High Point | NC | 27261 | 49,003
Housing Authority of the City of Kinston, NC | 608 North Queen Street | Kinston | NC | 28501 | 48,463
Housing Authority of the City of Wilmington, NC | 1524 South 16th Street | Wilmington | NC | 28401 | 55,273
Housing Authority of the City of Winston-Salem | 500 West Fouth Street, Suite 300 | Winston-Salem | NC | 27101 | 57,000
Housing Authority of the Town of Laurinburg | P.O. Box 1437, 1300 Woodlawn Street | Laurinburg | NC | 28353 | 47,564
Isothermal Plan and Dev Commission | P.O. Box 841, 111 West Court Street | Rutherfordton | NC | 28139 | 35,744
Mid-East Regional Housing Authority | 809 Pennsylvania Avenue | Washington | NC | 27889 | 40,804
Mountain Projects, Inc. | 2251 Old Balsam Road | Waynesville | NC | 28786 | 33,771
Northwestern Regional Housing Authority | P.O. Box 2510, 869 Highway 105 Extension, Suite 10 | Boone | NC | 28607 | 206,884
Rowan County Housing Authority | 310 Long Meadow Drive | Salisbury | NC | 28147 | 90,900
Sandhills Community Action Program, Inc. | P.O. Box 937, 103 Saunders Street | Carthage | NC | 28327 | 38,000
Sanford Housing Authority | 1000 Carthage Street | Sanford | NC | 27330 | 22,113
Statesville Housing Authority | 110 West Allison Street | Statesville | NC | 28677 | 45,419
The Housing Authority of the City of Durham | 330 East Main Street | Durham | NC | 27701 | 68,680
Thomasville Housing Authority | 201 James Avenue | Thomasville | NC | 27360 | 32,000
Twin Rivers Opportunities, Inc. | 318 Craven Street | New Bern | NC | 28563 | 22,403
Washington Housing Authority | 809 Pennsylvania Avenue | Washington | NC | 27889 | 40,000
Western Carolina Community Action | P.O. Box 685, 220 King Creek Boulevard | Hendersonville | NC | 28793 | 61,705
Western Piedmont Council of Governments | P.O. Box 9026, 736 4th Street SW | Hickory | NC | 28603 | 69,000
Fargo Housing and Redevelopment Authority | 325 Broadway | Fargo | ND | 58102 | 55,675
Minot Housing Authority | 108 Burdick Expressway East | Minot | ND | 58701 | 43,612
The Housing Authority of the City of Grand Forks, ND | 1405 1st Avenue North | Grand Forks | ND | 58203 | 104,385
Douglas County Housing Authority | 5404 No. 107th Plaza | Omaha | NE | 68134 | 51,510
Goldenrod Regional Housing Agency | P.O. Box 799, 1017 Avenue East | Wisner | NE | 68791 | 36,421
Housing Authority of the City of Lincoln | 5700 R Street | Lincoln | NE | 68505 | 60,952
Housing Authority of the City of Omaha | 540 South 27th Street | Omaha | NE | 68105 | 141,884
Kearney Housing Agency | P.O. Box 1236, 2715 Avenue I | Kearney | NE | 68848 | 7,535
Dover Housing Authority | 62 Whittier Street | Dover | NH | 3820 | 69,000
Keene Housing Authority | 831 Court Street | Keene | NH | 3431 | 131,198
Manchester Housing and Redevelopment Authority | 198 Hanover Street | Manchester | NH | 3104 | 44,997
New Hampshire Housing Finance Authority | 32 Constitution Drive | Bedford | NH | 3110 | 234,031
Fort Lee Housing Authority | 1403 Teresa Drive | Fort Lee | NJ | 7024 | 51,000
Housing Authority County of Morris | 99 Ketch Road | Morristown | NJ | 7960 | 32,485
Housing Authority of Gloucester County | 100 Pop Moylan Boulevard | Deptford | NJ | 8096 | 43,400
Housing Authority of the Borough of Madison | 24 Central Avenue | Madison | NJ | 7940 | 55,233
Housing Authority of the City of Camden | 2021 Watson Street, 2nd Floor | Camden | NJ | 8105 | 40,740
Housing Authority of the City of East Orange | 160 Halsted Street | East Orange | NJ | 7018 | 69,000
Housing Authority of the City of Jersey City | 400 US Highway #1 | Jersey City | NJ | 7306 | 293,435
Housing Authority of the City of Newark | 500 Broad Street | Newark | NJ | 7102 | 65,897
Housing Authority of the City of Orange | 340 Thomas Boulevard | Orange | NJ | 7050 | 34,000
Housing Authority of the City of Paterson | 60 Van Houten Street | Paterson | NJ | 7505 | 49,889
Housing Authority of the City of Perth Amboy | P.O. Box 390, 881 Amboy Avenue | Perth Amboy | NJ | 8862 | 135,806
Housing Authority of the Town of Dover | 215 East Blackwell Street | Dover | NJ | 7801 | 31,777
Irvington Housing Authority, Inc. | 624 Nye Avenue | Irvington | NJ | 7111 | 68,680
Lakewood Housing Authority | P.O. Box 1599, 317 Sampson Avenue | Lakewood | NJ | 8701 | 66,214
Lakewood Tenants Organization, Inc. | 600 West Kennedy Boulevard | Lakewood | NJ | 8701 | 51,140
Long Branch Housing Authority | 2 Hope Lane | Long Branch | NJ | 7740 | 30,380
Monmouth County Public Housing Agency | 3000 Kozloski Road | Freehold | NJ | 7728 | 69,000
New Jersey Department of Community Affairs | P.O. Box 051, 101 South Broad Street | Trenton | NJ | 8625 | 275,040
Passaic County Public Housing Agency | 100 Hamilton Plaza, Suite 510 | Paterson | NJ | 7505 | 123,244
Pleasantville Housing Authority | 156 North Main Street | Pleasantville | NJ | 8232 | 34,340
Woodbridge Housing Authority | 20 Bunns Lane | Woodbridge | NJ | 7095 | 22,286
Bernalillo County Housing Department | 1900 Bridge Boulevard SW | Albuquerque | NM | 87105 | 118,368
Clovis Housing & Redevelopment Agency, Inc. | P.O. Box 1240, 2101 West Grand Avenue | Clovis | NM | 88101 | 41,624
Housing Authority of the City of Truth or Consequences | 108 Cedar | Truth or Consequences | NM | 87901 | 46,101
Santa Fe Civic Housing Authority | 664 Alta Vista Street | Santa Fe | NM | 87505 | 66,963
Santa Fe County Housing Authority | 52 Camino De Jacobo | Santa Fe | NM | 87507 | 69,000
Socorro County Housing Authority | P.O. Box 00, 301 Otero Avenue | Socorro | NM | 87801 | 25,000
Taos County Housing Authority | Box 4239 NDCBU, 525 Ranchitos Road | Taos | NM | 87571 | 59,243
Housing Authority of the City of Reno | 1525 East 9th Street | Reno | NV | 89512 | 44,327
Southern Nevada Regional Housing Authority | 340 North 11th Street | Las Vegas | NV | 89101 | 514,806
Albany Housing Authority | 200 South Pearl Street | Albany | NY | 12202 | 137,360
Amsterdam Housing Authority | 52 Division Street | Amsterdam | NY | 12010 | 49,435
City of Johnstown | c/o Joseph E. Mastrianni, Inc., 11 Federal Street | Saratoga Springs | NY | 12866 | 32,969
City of North Tonawanda, Belmont Housing Resources, Agent | 1195 Main Street | Buffalo | NY | 14209 | 48,583
City of Oswego Community Development Office | 20 West Oneida Street, Third Floor | Oswego | NY | 13126 | 47,140
City of Port Jervis | 17-19 Sussex Street, Exchange Plaza | Port Jervis | NY | 12771 | 14,147
City of Utica Section 8 Program | 1 Kennedy Plaza | Utica | NY | 13502 | 46,000
Erie County PHA Consortium, Town of Amherst, Belmont Housing | 1195 Main Street | Buffalo | NY | 14209 | 147,097
Geneva Housing Authority | P.O. Box 153, 41 Lewis Street | Geneva | NY | 14456 | 50,419
Gloversville Housing Authority | c/o Joseph E. Mastrianni, Inc., 11 Federal Street | Saratoga Springs | NY | 12866 | 49,199
Ithaca Housing Authority | 800 South Plain Street | Ithaca | NY | 14850 | 137,360
Mechanicville Housing Authority | c/o Joseph E. Mastrianni, Inc., 11 Federal Street | Saratoga Springs | NY | 12866 | 32,000
Municipal Housing Authority of the City of Schenectady | 375 Broadway | Schenectady | NY | 12305 | 47,830
New Rochelle Municipal Housing Authority | 50 Sickles Avenue | New Rochelle | NY | 10801 | 65,558
New York City Housing Authority | 250 Broadway | New York | NY | 10007 | 69,000
New York Department Housing Preservation + Development | 100 Gold Street | New York City | NY | 10038 |
North Fork Housing Alliance, Inc. | 116 South Street | Greenport | NY | 11944 | 34,500
NYS Housing Trust Fund (NY904) | 25 Beaver Street, #732 | New York | NY | 10004 |
Rental Assistance Corporation of Buffalo | 470 Franklin Street | Buffalo | NY | 14202 | 98,697
Rochester Housing Authority | 675 West Main Street | Rochester | NY | 14611 | 278,050
Syracuse Housing Authority | 516 Burt Street | Syracuse | NY | 13202 | 206,040
Town of Babylon Housing Assistance Agency | 281 Phelps Lane, Room #9 | North Babylon | NY | 11703 | 49,599
Town of Brookhaven | One Independence Hill | Farmingville | NY | 11738 | 58,273
Town of Colonie | c/o Joseph E. Mastrianni, Inc., 11 Federal Street | Saratoga Springs | NY | 12866 | 52,602
Town of Guilderland | c/o Joseph E. Mastrianni, Inc., 11 Federal Street | Saratoga Springs | NY | 12866 | 65,038
Town of Huntington Housing Authority | 1 A Lowndes Avenue | Huntington Station | NY | 11746 | 68,680
Town of Islip Housing Authority | 963 Montauk Highway | Oakdale | NY | 11769 | 23,000
Town of Rotterdam | c/o Joseph E. Mastrianni, Inc., 11 Federal Street | Saratoga Springs | NY | 12866 | 54,797
Town of Smithtown | P.O. Box 575, 99 West Main Street | Smithtown | NY | 11787 | 24,853
Troy Housing Authority | One Eddy's Lane | Troy | NY | 12180 | 69,000
Village of Ballston Spa | c/o Joseph E. Mastrianni, Inc., 11 Federal Street | Saratoga Springs | NY | 12866 | 41,623
Village of Corinth | c/o Joseph E. Mastrianni, 11 Federal Street | Saratoga Springs | NY | 12866 | 33,237
Village of Fort Plain | c/o Joseph E. Mastrianni, Inc., 11 Federal Street | Saratoga Springs | NY | 12866 | 32,969
Village of Highland Falls | c/o Joseph E. Mastrianni, Inc., 11 Federal Street | Saratoga Springs | NY | 12866 | 32,969
Village of Kiryas Joel Housing Authority | 51 Forest Road, Suite 360 | Monroe | NY | 10950 | 66,200
Village of Scotia | c/o Joseph E Mastrianni, Inc., 11 Federal Street | Saratoga Springs | NY | 12866 | 28,779
Adams Metropolitan Housing Authority | 401 East Seventh Street | Manchester | OH | 45144 | 40,000
Akron Metropolitan Housing Authority | 100 West Cedar Street | Akron | OH | 44307 | 184,367
Allen Metropolitan Housing Authority | 600 South Main Street | Lima | OH | 45804 | 39,501
Athens Metropolitan Housing Authority | 10 Hope Drive | Athens | OH | 45701 | 41,276
Chillicothe Metropolitan Housing Authority | 178 West Fourth Street | Chillicothe | OH | 45601 | 45,247
Cincinnati Metropolitan Housing Authority | 16 West Central Parkway | Cincinnati | OH | 45202 | 248,250
City of Marietta, Ohio/PHA | 304 Putnam Street | Marietta | OH | 45750 | 44,222
Clinton Metropolitan Housing Authority | 478 Thorne Avenue | Wilmington | OH | 45177 | 50,225
Columbus Metropolitan Housing Authority | 880 East 11th Avenue | Columbus | OH | 43211 | 96,258
Cuyahoga Metropolitan Housing Authority | 3400 Hamilton Avenue | Cleveland | OH | 44114 | 90,958
Dayton Metropolitan Housing Authority | P.O. Box 8750, 400 Wayne Avenue | Dayton | OH | 45401 | 95,252
Delaware Metropolitan Housing Authority | P.O. Box 1292, 222 Curtis Street (rear) | Delaware | OH | 43015 | 47,001
Erie MHA (OH028) | 322 Warren Street | Sandusky | OH | 44870 | 61,650
Fairfield Metropolitan Housing Authority | 315 North Columbus Street | Lancaster | OH | 43130 | 52,645
Geauga Metropolitan Housing Authority | 385 Center Street | Chardon | OH | 44024 | 59,000
Jackson Metropolitan Housing Authority | P.O. Box 619, 249 West 13th Street | Wellston | OH | 45692 | 40,640
Jefferson Metropolitan Housing Authority | 815 North 6th Avenue | Steubenville | OH | 43952 | 49,999
Knox Metropolitan Housing Authority | 201A West High Street | Mount Vernon | OH | 43050 | 46,244
Lake Metropolitan Housing Authority | 189 First Street | Painesville | OH | 44077 | 77,987
Logan County Metropolitan Housing Authority | 116 North Everett | Bellefontaine | OH | 43311 | 37,903
Lorain Metropolitan Housing Authority | 1600 Kansas Avenue | Lorain | OH | 44052 | 49,606
Lucas Metropolitan Housing Authority | P.O. Box 477, 435 Nebraska Avenue | Toledo | OH | 43697 | 181,255
Medina Metropolitan Housing Authority | 850 Walter Road | Medina | OH | 44256 | 37,535
Meigs Housing Authority | 117 East Memorial Drive, Suite 6 | Pomeroy | OH | 45769 | 7,365
Morgan Metropolitan Housing Authority | 4580 N. Street Route 376 NW | McConnelsville | OH | 43756 | 21,341
Morrow Metropolitan Housing Authority | 81 North Rich Street | Mount Gilead | OH | 43338 | 37,589
Parma Public Housing Agency | 1440 Rockside Road, Suite 306 | Parma | OH | 44134 | 41,212
Pickaway Metro Housing Authority | 176 Rustic Drive | Circleville | OH | 43113 | 23,500
Portage Metropolitan Housing Authority | 2832 State Route 59 | Ravenna | OH | 44266 | 38,462
Springfield Metropolitan Housing Authority | 101 West High Street | Springfield | OH | 45502 | 44,645
Trumbull Metropolitan Housing Authority | 4076 Youngstown Road, S.E., Suite 101 | Warren | OH | 44484 | 66,212
Tuscarawas Metropolitan Housing Authority | 134 Seconed Street SW | New Philadelphia | OH | 44663 | 50,000
Vinton Metropolitan Housing Authority | P.O. Box 487, 310 West High Street | McArthur | OH | 45651 | 38,728
Wayne Metropolitan Housing Authority | 345 North Market Street | Wooster | OH | 44691 | 43,528
Youngstown Metropolitan Housing Authority | 131 West Boardman Street | Youngstown | OH | 44503 | 182,093
Zanesville Metropolitan Housing Authority | 407 Pershing Road | Zanesville | OH | 43701 | 183,444
Housing Authority of the City of Norman | 700 North Berry Road | Norman | OK | 73069 | 49,212
Housing Authority of the City of Shawnee, OK | P.O. Box 3427, 601 West Seventh Street | Shawnee | OK | 74802 | 41,208
Housing Authority of the City of Stillwater | 807 South Lowry, Ofc. | Stillwater | OK | 74074 | 45,178
Housing Authority of the City of Tulsa | 415 East Independence Street | Tulsa | OK | 74106 | 39,294
Oklahoma City Housing Authority | 1700 Northeast 4th Street | Oklahoma City | OK | 73117 | 17,679
Oklahoma Housing Finance Agency | 100 N.W. 63rd Street, Suite 200 | Oklahoma City | OK | 73116 | 195,071
Central Oregon Regional Housing Authority | 405 Southwest 6th Street | Redmond | OR | 97756 | 134,654
Columbia Gorge Housing Authority | 312 Court Street, Suite 419 | The Dalles | OR | 97058 | 54,000
Housing Authority & Community Services Agency of Lane County | 177 Day Island Road | Eugene | OR | 97401 | 138,000
Housing Authority & Urban Renewal Agency of Polk County | P.O. Box 467, 204 SW Walnut Avenue | Dallas | OR | 97338 | 67,326
Housing Authority of Clackamas County | P.O. Box 1510 | Oregon City | OR | 97045 | 99,286
Housing Authority of Jackson County | 2251 Table Rock Road | Medford | OR | 97501 | 127,526
Housing Authority of Portland | 135 S.W. Ash | Portland | OR | 97204 | 313,695
Housing Authority of the City of Salem | 360 Church Street SE | Salem | OR | 97301 | 198,213
Housing Authority of Washington County | 111 North East Lincoln Street, Suite 200-L | Hillsboro | OR | 97124 | 51,563
Housing Authority of Yamhill County | P.O. Box 865, 135 Northeast Dunn Place | McMinnville | OR | 97128 | 262,625
Linn-Benton Housing Authority | 1250 Queen Avenue SE | Albany | OR | 97322 | 137,360
Marion County Housing Authority | 2645 Portland Road NE, Suite 200 | Salem | OR | 97301 | 58,570
Mid-Columbia Housing Authority | 312 Court Street, Suite 419 | The Dalles | OR | 97058 | 54,000
Northeast Oregon Housing Authority | P.O. Box 3357, 2608 May Lane | La Grande | OR | 97850 | 85,000
Northwest Oregon Housing Authority | P.O. Box 1149, 147 South Main Avenue | Warrenton | OR | 97146 | 45,437
Adams County Housing Authority | 40 East High Street | Gettysburg | PA | 17325 | 47,768
Allegheny County Housing Authority | 625 Stanwix Street | Pittsburgh | PA | 15222 | 100,879
Altoona Housing Authority | 2700 Pleasant Valley Boulevard | Altoona | PA | 16602 | 56,689
Delaware County Housing Authority | P.O. Box 100, 1855 Constitution Avenue | Woodlyn | PA | 19094 | 43,932
Harrisburg Housing Authority | 351 Chestnut Street | Harrisburg | PA | 17101 | 55,000
Housing Authority of Centre County | 602 East Howard Street | Bellefonte | PA | 16823 | 47,278
Housing Authority of Indiana County | 104 Philadelphia Street | Indiana | PA | 15701 | 13,215
Housing Authority of Northumberland County | 50 Mahoning Street | Milton | PA | 17847 | 16,937
Housing Authority of the City of Easton | P.O. Box 876, 157 South Fourth Street | Easton | PA | 18044 | 57,570
Housing Authority of the City of Lancaster | 325 Church Street | Lancaster | PA | 17602 | 52,316
Housing Authority of the City of Pittsburgh | 200 Ross Street | Pittsburgh | PA | 15219 | 262,267
Housing Authority of the City of York | 31 South Broad Street | York | PA | 17403 | 48,577
Housing Authority of the County of Armstrong | 350 South Jefferson Street | Kittanning | PA | 16201 | 26,587
Housing Authority of the County of Butler | 114 Woody Drive | Butler | PA | 16001 | 45,477
Housing Authority of the County of Clarion | 8 West Main Street | Clarion | PA | 16214 | 81,266
Housing Authority of the County of Cumberland | 114 North Hanover Street | Carlisle | PA | 17013 | 20,173
Housing Authority of the County of Dauphin | P.O. Box 7598, 501 Mohn Street | Steelton | PA | 17113 | 28,327
Housing Authority of the County of Franklin | 436 West Washington Street | Chambersburg | PA | 17201 | 20,800
Housing Authority of the County of Union | 1610 Industrial Boulevard, Suite 400 | Lewisburg | PA | 17837 | 23,654
Lancaster County Housing Authority | 202 North Prince Street, Suite 400 | Lancaster | PA | 17603 | 52,313
Lehigh County Housing Authority | 635 Broad Street | Emmaus | PA | 18049 | 48,480
Lycoming Housing Authority | 1941 Lincoln Drive | Williamsport | PA | 17701 | 19,976
Montgomery County Housing Authority | 104 West Main Street, Suite #1 | Norristown | PA | 19401 | 55,182
Philadelphia Housing Authority | 12 South 23rd Street, 6th Floor | Philadelphia | PA | 19103 | 345,000
Westmoreland County Housing Authority | 154 South Greengate Road | Greensburg | PA | 15601 | 150,041
Municipality of Bayamon | P.O. Box 1588 | Bayamon | PR | 960 | 28,180
Municipality of Guaynabo | P.O. Box 7885 | Guaynabo | PR | 970 | 13,000
Municipality of Juana Diaz | P.O. Box 1409, Calle Degetau #35 | Juana Diaz | PR | 795 | 24,373
Municipality of Ponce | P.O. Box 331709 | Ponce | PR | 733 | 15,150
Municipality of San Juan | P.O. Box 36-2138 | San Juan | PR | 936 | 35,985
Central Falls Housing Authority | 30 Washington Street | Central Falls | RI | 2863 | 63,456
East Providence Housing Authority | 99 Goldsmith Avenue | East Providence | RI | 2914 | 24,470
Housing Authority of Pawtucket | 214 Roosevelt Avenue | Pawtucket | RI | 2860 | 34,500
Housing Authority of the Town of East Greenwich | 146 First Avenue | East Greenwich | RI | 2818 | 25,645
Narragansett Housing Authority | 25 Fifth Avenue | Narragansett | RI | 2882 | 69,000
Rhode Island Housing | 44 Washington Street | Providence | RI | 2903 | 183,618
The Housing Authority of the City of Providence | 100 Broad Street | Providence | RI | 2903 | 127,744
Town of Coventry Housing Authority | 14 Manchester Circle | Coventry | RI | 2816 | 51,571
Town of Cumberland Housing Authority | 573 Mendon Road, Suite 4 | Cumberland | RI | 2864 | 67,326
Warwick Housing Authority | 1035 West Shore Road | Warwick | RI | 2889 | 15,529
Beaufort Housing Authority | Post Office Box 1104 | Beaufort | SC | 29901 | 43,260
Charleston County Housing & Redevelopment Authority | 2106 Mount Pleasant Street | Charleston | SC | 29403 | 60,000
Housing Authority of Anderson | 1335 East River Street | Anderson | SC | 29624 | 38,622
Housing Authority of Greenville | 511 Augusta Street | Greenville | SC | 29605 | 54,187
Housing Authority of Myrtle Beach | P.O. Box 2468, 605 10th Avenue North | Myrtle Beach | SC | 29577 | 34,340
Housing Authority of the City of Columbia, SC | 1917 Harden Street | Columbia | SC | 29204 | 23,408
North Charleston Housing Authority | 2170 Ashley Phosphate Road, Suite #700 | North Charleston | SC | 29406 | 47,500
Spartanburg Housing Authority | 201 Caulder Avenue, Suite A | Spartanburg | SC | 29306 | 51,000
The Housing Authority City of Charleston | 550 Meeting Street | Charleston | SC | 29403 | 52,136
Brookings County Housing and Redevelopment Commission | P.O. Box 432, 1310 South Main Avenue, Suite 106 | Brookings | SD | 57006 | 37,823
Sioux Falls Housing and Redevelopment Commission | 630 South Minnesota Avenue | Sioux Falls | SD | 57104 | 73,865
Chattanooga Housing Authority | 801 North Holtzclaw Avenue | Chattanooga | TN | 37401 | 69,000
East Tennessee Human Resource Agency, Inc. | 9111 Cross Park Drive, Suite D-100 | Knoxville | TN | 37923 | 34,750
Jackson Housing Authority | 125 Preston Street | Jackson | TN | 38301 | 102,010
Kingsport Housing & Redevelopment Authority | P.O. Box 44, 906 East Sevier Avenue | Kingsport | TN | 37662 | 93,084
Knoxville's Community Development Corporation | P.O. Box 3550, 901 North Broadway | Knoxville | TN | 37927 | 91,830
Memphis Housing Authority | 700 Adams Avenue | Memphis | TN | 38105 | 68,680
Metropolitan Development and Housing Agency | 701 South Sixth Street | Nashville | TN | 37206 | 130,094
Oak Ridge Housing Authority | 10 Van Hicks Lane | Oak Ridge | TN | 37830 | 36,651
Tennessee Housing Development Agency | 404 James Robertson Parkway, Suite 1200 | Nashville | TN | 37243 | 267,000
Anthony Housing Authority Inc | P.O. Box 1710, 1007 Franklin Street | Anthony | TX | 79821 | 37,988
Brazos Valley Council of Governments | P.O. Drawer 4128 | Bryan | TX | 77805 | 552,000
City of Amarillo | P.O. Box 1971 | Amarillo | TX | 79105 | 36,009
City of Garland Housing Agency | 210 Carver, Suite 201B | Garland | TX | 75040 | 51,368
City of Longview, Texas | P.O. Box 1952, 1202 North Sixth Street | Longview | TX | 75606 | 24,507
City of Tyler Housing Agency | 900 West Gentry Parkway | Tyler | TX | 75702 | 49,564
Dallas, County of | 2377 North Stemmons Freeway, Suite 600 | Dallas | TX | 75207 | 64,000
Deep East Texas Council of Governments | 210 Premier Drive | Jasper | TX | 75951 | 71,714
Housing Authority of Bexar County | 1017 North Main Avenue, Suite 201 | San Antonio | TX | 78212 | 50,000
Housing Authority of Austin | P.O. Box 6159 | Austin | TX | 78762 | 138,975
Housing Authority of City of Fort Worth | P.O. Box 430 | Fort Worth | TX | 76101 | 269,856
Housing Authority of City of Galveston | 4700 Broadway | Galveston | TX | 77551 | 59,151
Housing Authority of the City of Abilene | 534 Cypress Street, Suite 200 | Abilene | TX | 79601 | 48,320
Housing Authority of the City of Arlington, TX | 501 West Sanford Street, Suite 20 | Arlington | TX | 76011 | 162,702
Housing Authority of the City of Beaumont | 1890 Laurel | Beaumont | TX | 77701 | 41,080
Housing Authority of the City of El Paso | 5300 East Paisano Drive | El Paso | TX | 79905 | 52,710
Housing Authority of the City of Kingsville | 1000 West Corral Avenue | Kingsville | TX | 78363 | 54,823
Housing Authority of the City of Lubbock | 1708 Crickets Avenue | Lubbock | TX | 79401 | 39,390
Housing Authority of the City of Mission | 1300 East 8th Street | Mission | TX | 78572 | 69,000
Housing Authority of the City of Pharr | 104 West Polk | Pharr | TX | 78577 | 37,501
Housing Authority of the City of San Angelo | 420 East 28th Street | San Angelo | TX | 76903 | 49,000
Housing Authority of the City of San Antonio | 818 South Flores Street | San Antonio | TX | 78204 | 394,401
Housing Authority of the City of Waco | P.O. Box 978, 4400 Cobbs Drive | Waco | TX | 76703 | 86,320
Housing Authority of the County of Hidalgo | 1800 North Texas Boulevard | Weslaco | TX | 78596 | 37,462
Houston Housing Authority | 2640 Fountainview Drive | Houston | TX | 77057 | 274,764
Midland County Housing Authority | 1710 Edwards | Midland | TX | 79701 | 42,466
Montgomery County Housing Authority | 1500 North Frazier, Suite 101 | Conroe | TX | 77301 | 43,122
Robstown Housing Authority | 625 West Avenue F | Robstown | TX | 78380 | 15,600
Round Rock Housing Authority | 1505 Lance Lane | Round Rock | TX | 78664 | 69,000
San Marcos Housing Authority | 1201 Thorpe Lane | San Marcos | TX | 78666 | 25,630
Tarrant County Housing Assistance Office | 2100 Circle Drive, 100 East Weatherford, Suite 500 | Fort Worth | TX | 76119 | 194,951
Texoma Council of Governments | 1117 Gallagher Drive | Sherman | TX | 75090 | 65,862
Walker County Housing Authority | 340 State Highway 75 North, #E | Huntsville | TX | 77320 | 45,450
Cedar City Housing Authority | 364 South 100 East | Cedar City | UT | 84720 | 17,000
Davis Community Housing Authority | P.O. Box 328, 352 South 200 West, Suite 1 | Farmington | UT | 84025 | 41,131
Housing Authority of Salt Lake City | 1776 South West Temple | Salt Lake City | UT | 84115 | 101,804
Housing Authority of the City of Ogden | 1100 Grant Avenue | Ogden | UT | 84404 | 52,030
Housing Authority of the County of Salt Lake | 3595 South Main Street | Salt Lake City | UT | 84115 | 142,446
Housing Authority of Utah County | 240 East Center | Provo | UT | 84606 | 53,539
Provo City Housing Authority | 650 West 100 North | Provo | UT | 84601 | 81,952
St. George Housing Authority | 975 North 1725 West, #101 | St. George | UT | 84770 | 20,570
Tooele County Housing Authority | 118 East Vine Street | Tooele | UT | 84074 | 44,928
Alexandria Redevelopment and Housing Authority | 600 North Fairfax | Alexandria | VA | 22314 | 69,000
Chesapeake Redevelopment & Housing Authority | 1468 South Military Highway | Chesapeake | VA | 23320 | 100,819
City of Roanoke Redevelopment & Housing Authority | 2624 Salem Turnpike NW | Roanoke | VA | 24017 | 51,462
City of Virginia Beach | 2401 Courthouse Drive, Building 1, Lower Level | Virginia Beach | VA | 23456 | 48,435
County of Loudoun | 102 Heritage Way NE, Suite 103 | Leesburg | VA | 20176 | 67,326
Fairfax County Redevelopment and Housing Authority | 3700 Pender Drive, Suite 300 | Fairfax | VA | 22030 | 69,000
Franklin Redevelopment and Housing Authority | 601 Campbell Avenue | Franklin | VA | 23851 | 34,300
Hampton Redevelopment & Housing Authority | P.O. Box 280, 1 Franklin Street, Suite 603 | Hampton | VA | 23669 | 50,813
Harrisonburg Redevelopment and Housing Authority | 286 Kelley Street | Harrisonburg | VA | 22802 | 24,019
James City County Office of Housing & Community Development | 5320 Palmer Lane, Suite 1A | Williamsburg | VA | 23188 | 23,990
Newport News Redevelopment and Housing Authority | 227 27th Street | Newport News | VA | 23607 | 99,658
Norfolk Redevelopment and Housing Authority | 201 Granby Street | Norfolk | VA | 23510 | 194,175
Portsmouth Redevelopment & Housing Authority | 801 Water Street, 2nd Floor | Portsmouth | VA | 23704 | 85,592
Prince William County OHCD | 15941 Donald Curtis Drive, Suite 112 | Woodbridge | VA | 22191 | 95,939
Richmond Redevelopment and Housing Authority | 901 Chamberlayne Parkway | Richmond | VA | 23220 | 66,791
Suffolk Redevelopment and Housing Authority | 530 East Pinner Street | Suffolk | VA | 23434 | 64,057
Waynesboro Redevelopment and Housing Authority | P.O. Box 1138, 1700 New Hope Road | Waynesboro | VA | 22980 | 39,031
Burlington Housing Authority | 65 Main Street | Burlington | VT | 5401 | 101,685
Vermont State Housing Authority | One Prospect Street | Montpelier | VT | 5602 | 234,998
Housing Authority City of Kelso | 1415 South 10th | Kelso | WA | 98626 | 18,766
Housing Authority of Chelan County & the City of Wenatchee | 1555 South Methow | Wenatchee | WA | 98801 | 16,083
Housing Authority of Island County | 7 N.W. 6th Street | Coupeville | WA | 98239 | 48,267
Housing Authority of Skagit County | 1650 Port Drive | Burlington | WA | 98233 | 49,000
Housing Authority of the City of Bremerton | 4040 Wheaton Way | Bremerton | WA | 98310 | 66,717
Housing Authority of the City of Longview | 1207 Commerce Avenue | Longview | WA | 98632 | 43,123
Housing Authority of the City of Pasco and Franklin County | 2505 West Lewis Street | Pasco | WA | 99301 | 50,160
Housing Authority of the City of Tacoma | 902 South L Street | Tacoma | WA | 98405 | 138,000
Housing Authority of the City of Vancouver | 2500 Main Street, Suite 200 | Vancouver | WA | 98660 | 128,442
Housing Authority of the County of Clallam | 2603 South Francis Street | Port Angeles | WA | 98362 | 94,170
Housing Authority of Thurston County | 1206 12th Avenue SE | Olympia | WA | 98501 | 132,428
King County Housing Authority | 600 Andover Park West | Tukwila | WA | 98188 | 260,924
Kitsap County Consolidated Housing Authority | 9307 Bayshore Drive NW | Silverdale | WA | 98383 | 25,756
Pierce County Housing Authority | 603 South Polk Street | Tacoma | WA | 98448 | 199,000
Seattle Housing Authority | 120 6th Avenue North | Seattle | WA | 98109 | 345,000
Appleton Housing Authority | 925 West Northland Avenue | Appleton | WI | 54914 | 49,600
Brown County Housing Authority | 100 North Jefferson Street | Green Bay | WI | 54301 | 135,462
City of Kenosha Housing Authority | 625 52nd Street, Room 98 | Kenosha | WI | 53140 | 67,266
Dane County Housing Authority | 2001 West Broadway, Suite 1 | Monona | WI | 53713 | 38,572
Dunn County Housing Authority | 1421 Stout Road | Menomonie | WI | 54751 | 18,698
Housing Authority of Racine County | 837 Main Street | Racine | WI | 53403 | 66,190
Housing Authority of the City of Milwaukee | P.O. Box 324 | Milwaukee | WI | 53201 | 69,000
Sauk County Housing Authority | P.O. Box 147, 1211 8th Street | Baraboo | WI | 53913 | 52,332
Winnebago County Housing Authority | 600 Merritt Avenue | Oshkosh | WI | 54901 | 69,000
Benwood Housing Authority | 2200 Marshall Street | Benwood | WV | 26031 | 13,851
Charleston-Kanawha Housing Authority | 1525 Washington Street, West | Charleston | WV | 25387 | 35,777
Clarksburg Harrison Regional Housing Authority | 433 Baltimore Avenue | Clarksburg | WV | 26301 | 34,028
Parkersburg Housing Authority | 1901 Cameron Avenue | Parkersburg | WV | 26101 | 45,136
The Housing Authority of the City of Fairmont | P.O. Box 2738, 103 12th Street | Fairmont | WV | 26555 | 30,186

[FR Doc. 2012-5890 Filed 3-9-12; 8:45 am]

BILLING CODE 4210-67-P